DEPARTMENT OF ENERGY

Federal Energy Regulatory Commission

[Docket No. EL13-88-000]

Northern Indiana Public Service Company v. Midcontinent Independent System Operator, Inc. and PJM Interconnection, L.L.C.; Notice of Request for Comments

On September 11, 2013, Northern Indiana Public Service Company (NIPSCO) filed a complaint against Midcontinent Independent System Operator, Inc. (MISO) and PJM Interconnection, L.L.C. (PJM).¹ NIPSCO requested that the Commission order MISO and PJM (the RTOs) to reform the interregional planning process of the Joint Operating Agreement between MISO and PJM (MISO-PJM JOA). On June 15, 2015, the Commission held a technical conference to explore issues raised in the Complaint related to the MISO-PJM JOA and the MISO-PJM seam.

¹ NIPSCO Complaint, Docket No. EL13-88-000 (filed Sept. 11, 2013).

Shown below are post-technical conference questions for which the Commission seeks further comment. To the extent that any response calls for specific revisions to the MISO-PJM JOA, the Commission requests that parties also provide redline revisions to the MISO-PJM JOA where possible.

1. According to comments made at the technical conference, it appears that several MISO and/or PJM stakeholder groups are currently working on potential revisions to the MISO-PJM JOA, MISO tariff and/or PJM tariff (e.g., models and assumptions, Market Efficiency Project and Cross Border Market Efficiency Project criteria, etc.). Please comment on the status of that effort, the potential revisions being considered, and the timing of any proposed revisions to be filed with the Commission for consideration.

2. Provide specific examples of types of facilities that could have a significant benefit (e.g., relieving congestion across the seam) but may not pass MISO's regional Market Efficiency Project and/or Cross-Border Market Efficiency Project criteria. To the extent such facilities would have significant benefit, what steps do the RTOs need to take to address the matter?

3. What specific revisions would need to be made to the MISO-PJM JOA in order to better align the existing regional transmission planning cycles with the interregional transmission planning process?

4. Would revisions to the MISO-PJM JOA to require the RTOs to, annually, or at some other regular interval, conduct a joint interregional transmission planning study help to address the issues created by the configuration of the PJM and MISO planning regions? If so, what specific revisions to the MISO-PJM JOA would be required?

5. Based on comments at the technical conference, it appears that projects that successfully navigate the Interregional Planning Stakeholder Advisory Committee process must be studied and approved two more times—once through the MISO regional planning process and once through the PJM regional planning process. Please give specific examples of reforms that could be made to address this “triple hurdle” ² (e.g., creation of a new project category for interregional transmission projects to be eligible for selection in the two RTOs' respective regional transmission plans).

² Various panelists referred to this process as the “triple hurdle” problem.

6. Please explain whether the avoidance of market-to-market payments should be included in the assessment of the benefits of Cross-Border Market Efficiency Projects.

7. Should the MISO-PJM JOA be revised to include the process and study scope of the “Quick Hit” ³ study process? Please explain why or why not.

³ MISO and PJM state that under the newly initiated PJM and MISO “Quick Hit” study, the RTOs are considering near-term upgrades to remedy recent historical interregional congestion issues. MISO and PJM explain that this study allows projects to be identified more quickly and alleviate the underlying issues promptly. MISO and PJM Joint Comments at 3, n.10 (filed Mar. 31, 2015). See also PJM/MISO Interregional Planning Stakeholder Advisory Committee Meeting Presentation at 4 (The “Quick Hit” study goal is to identify valuable projects on the MISO-PJM seam. Valuable projects are those that will relieve known Market-to-Market issues, are completed in a relatively short time frame, have a quick payback on investment, and are not greenfield projects.)

8. Explain ways in which the RTOs can better coordinate planning of new generator interconnection and generator retirement. Would using models with the same assumptions and criteria be one way to better coordinate? What specific revisions would need to be made to the MISO-PJM JOA?

Interested parties should submit comments in response to the questions above on or before August 14, 2015. Reply comments must be filed on or before August 31, 2015.

ADDRESSES: Parties may submit comments by one of the following methods: Agency Web site: http://www.ferc.gov/. Follow the instructions for submitting comments via the eFiling link found under the “Documents and Filing” tab.

Mail: Those unable to file comments electronically may mail or hand-deliver comments to: Federal Energy Regulatory Commission, Secretary of the Commission, 888 First Street NE., Washington, DC 20426.

All comments submitted should be identified by Docket No. EL13-88-000.

For further information contact:

Jason Strong (Technical Information)

Federal Energy Regulatory Commission, Office of Energy Market Regulation

888 First Street NE., Washington, DC 20426

(202) 502-6124

jason.strong@ferc.gov

Ben Foster (Technical Information)

Federal Energy Regulatory Commission, Office of Energy Policy and Innovation

888 First Street NE., Washington, DC 20426

(202) 502-6149

ben.foster@ferc.gov

Lina Naik (Legal Information)

Federal Energy Regulatory Commission, Office of the General Counsel

888 First Street NE., Washington, DC 20426

(202) 502-8882

lina.naik@ferc.gov

Dated: July 15, 2015.
Kimberly D. Bose,
Secretary.

[FR Doc. 2015-17811 Filed 7-20-15; 8:45 am]

BILLING CODE 6717-01-P